DEPARTMENT OF COMMERCE

National Oceanic and Atmospheric Administration

50 CFR Part 679

[RTID 0648-XC845]

Fisheries of the Exclusive Economic Zone Off Alaska; Snow Crab Rebuilding Plan in the Bering Sea and Aleutian Islands

AGENCY: National Marine Fisheries Service (NMFS), National Oceanic and Atmospheric Administration (NOAA), Commerce.

ACTION: Notice of agency decision.

SUMMARY: The National Marine Fisheries Service (NMFS) announces the approval of Amendment 53 to the Fishery Management Plan for Bering Sea/Aleutian Islands King and Tanner Crabs (Crab FMP). Amendment 53 adds a new rebuilding plan for snow crab (Chionoecetes opilio) to the Crab FMP. The objective of this amendment is to rebuild the snow crab stock. In order to comply with provisions of the Magnuson-Stevens Fishery Conservation and Management Act (Magnuson-Stevens Act), this action is necessary to implement a rebuilding plan prior to the start of the 2023/2024 fishing season. Amendment 53 is intended to promote the goals and objectives of the Magnuson-Stevens Act, the Crab FMP, and other applicable laws.

DATES: The amendment was approved on August 31, 2023.

ADDRESSES: Electronic copies of Amendment 53 and the Environmental Assessment (referred to as the “Analysis”) prepared for this action may be obtained from https://www.regulations.gov.

FOR FURTHER INFORMATION CONTACT: Megan Mackey, 907-586-7228.

SUPPLEMENTARY INFORMATION: The Magnuson-Stevens Act requires that each regional fishery management council submit any FMP amendment it prepares to NMFS for review and approval, disapproval, or partial approval by the Secretary of Commerce (Secretary). The Magnuson-Stevens Act also requires that NMFS, upon receiving an FMP amendment, immediately publish a notice in the Federal Register announcing that the amendment is available for public review and comment.

The Notice of Availability (NOA) for Amendment 53 was published in the Federal Register on June 15, 2023 (88 FR 39216) with a 60-day comment period that ended on August 14, 2023. NMFS received one comment during the public comment period on the NOA. NMFS summarized and responded to this comment under Comments and Responses, below.

NMFS determined that Amendment 53 is consistent with the Magnuson-Stevens Act and other applicable laws, and the Secretary of Commerce approved Amendment 53 on August 31, 2023. The June 15, 2023 NOA contains additional information on this action. No changes to Federal regulations are necessary to implement the Amendment.

NMFS manages the crab fisheries in the exclusive economic zone under the Crab FMP. The North Pacific Fishery Management Council (Council) prepared the Crab FMP under the authority of the Magnuson-Stevens Act, (16 U.S.C. 1801 et seq.). Regulations governing U.S. fisheries and implementing the FMP appear at 50 CFR parts 600 and 680.

Through the Crab FMP, the State of Alaska (the State) is delegated management authority over certain aspects of the Eastern Bering Sea (EBS) snow crab fishery. This authority is limited by the Magnuson-Stevens Act and the FMP. For EBS snow crab, the State has established a harvest strategy to set total allowable catch (TAC) and announce season or area closures when the TAC is reached. The State's Bering Sea C. opilio Tanner (snow crab) harvest strategy applies during rebuilding and is provided in the Alaska Administrative Code (AAC) at 5 AAC 35.517. The State harvest strategy is more conservative than the Crab FMP's control rule parameters for EBS snow crab because, under the harvest strategy, a higher level of biomass is required to open directed fishing than under the overfishing level (FOFL) control rule.

On October 19, 2021, NMFS determined and notified the Council that the EBS snow crab stock was overfished. To comply with provisions of the Magnuson-Stevens Act, the Council developed a rebuilding plan to be implemented prior to the start of the 2023/2024 fishing season.

In February 2023, the Council chose a rebuilding plan for EBS snow crab that will allow bycatch removals and an opportunity for directed harvest during rebuilding if estimates of stock biomass are sufficient to open the fishery under the State's snow crab harvest strategy. The rebuilding plan is consistent with the Magnuson-Stevens Act and with National Standard 1 Guidelines on time for rebuilding, specifically rebuilding within a time (Ttarget) that is as short as possible, taking into account the status and biology of any overfished stocks of fish, the needs of fishing communities, recommendations by international organizations in which the United States participates, and the interaction of the overfished stock of fish with the marine ecosystems. This rebuilding plan will allow directed fishing pursuant to the State harvest strategy and may provide important economic opportunities for harvesters, processors, and Alaska communities. Maintaining this economic opportunity for a limited directed commercial fishery under the State harvest strategy is important for harvesters, processors, and communities, particularly during this time when the majority of commercial crab stocks are in a state of decline and future openings are likely to be limited.

Under the Magnuson-Stevens Act, the time period specified for rebuilding a fishery generally should not exceed 10 years unless the biology of the stock or environmental conditions dictate otherwise. The projected time for rebuilding the EBS snow crab stock, taking into account the biology of the species and current environmental conditions, is 6 years. The main driver in the speed of rebuilding is likely related to recruitment and the ecosystem conditions that allow for increased recruitment into the population. Uncertainty surrounding recruitment and mortality under current ecosystem conditions is expected to heavily influence the rate at which the stock is able to rebuild under the projection parameters. Fishing mortality under the State's current harvest strategy is expected to have only insignificant or minimal impacts on the rate of rebuilding.

Amendment 53 adds Section 6.2.3 to the Crab FMP to include the rebuilding plan for EBS snow crab. Under the rebuilding plan, ecosystem indicators developed for the stock will be monitored during rebuilding. The NMFS EBS bottom-trawl survey provides data for the annual assessment of the status of crab stocks in the BSAI, including EBS snow crab, and will continue throughout rebuilding. The Council's BSAI Crab Plan Team will report stock status and progress towards the rebuilt level in the Stock Assessment and Fishery Evaluation (SAFE) Report for the King and Tanner Crab Fisheries of the BSAI. Additionally, the State and NMFS monitor directed fishery catch and bycatch of snow crabs in other fisheries. When the fishery is open, the State requires full observer coverage (100 percent) for catcher/processors and partial coverage (30 percent) for catcher vessels participating in the crab fishery. Observers monitor harvest at sea and landings by catcher vessels and shoreside processors. The State reports the total harvest from the commercial crab fishery, and that report will be included annually in the SAFE Report. The contribution of the rebuilding plan's assessment and monitoring to stock recovery will be additive to measures already in place that limit the effects of fishing activity on EBS snow crab.

In addition, Amendment 53 will remove rebuilding plans from the Crab FMP for stocks that have since been rebuilt or that have been replaced with new rebuilding plans, including rebuilding plans for Bering Sea Tanner crab (declared overfished on March 3, 1999), Bering Sea snow crab (declared overfished on September 24, 1999), and St. Matthew blue king crab (declared overfished on September 24, 1999).

Comments and Responses

During the public comment period for the NOA for Amendment 53, NMFS received one unique comment from one member of the public. NMFS's response to this comment is presented below.

Comment 1: One commenter expressed general support for this action.

Response: NMFS acknowledges this comment.

Authority: 16 U.S.C. 1801 et seq.

Dated: September 1, 2023.
Samuel D. Rauch, III,
Deputy Assistant Administrator for Regulatory Programs, National Marine Fisheries Service.

[FR Doc. 2023-19300 Filed 9-6-23; 8:45 am]

BILLING CODE 3510-22-P